DEPARTMENT OF THE INTERIOR

Bureau of Land Management

[CA-340-08-1220-DD]

Notice of Order Closing Public Lands at the Knoxville Recreation Area, Lake County, CA, to Recreational and Target Shooting.

AGENCY: Bureau of Land Management, Interior.

ACTION: Notice.

SUMMARY: Pursuant to 43 Code of Federal Regulations (CFR) 8364.1, an Order has been issued by the Ukiah Field Office, Bureau of Land Management (BLM), prohibiting recreational and target practice shooting on six (6) acres previously available for such shooting within the Knoxville Recreation Area. These six acres, managed by the Ukiah BLM Field Office, are located in the SE¼ SW¼ section 28, Township 12 North, Range 5 West, Mount Diablo Meridian. The BLM land base for the Knoxville Recreation Area is located in southeastern Lake, northern Napa, and northwestern Yolo counties, California. This shooting closure is necessary to protect persons, property, and public lands. An increase in visitors, coupled with housing/subdivision development of adjacent ranches, has led to a significant increase in documented cases where stray bullets have narrowly missed public land users, vehicles, and adjacent private buildings. This Closure Order does not apply to hunting under the laws and regulations of the State of California. Other BLM managed public lands of the Knoxville Recreation Area remain unavailable for shooting due to the lack of identified designated shooting areas as defined by the Ukiah Resource Management Plan (June 2006.)

DATES: This Order is effective upon publication.

FOR FURTHER INFORMATION CONTACT: Rich Burns, Field Manager, BLM Ukiah Field Office, 2550 North State Street, Ukiah, California, 95482. Telephone: (707) 468-4000; Fax: (707) 468-4027, during regular business hours, 7:45 a.m. to 4:30 p.m., Monday through Friday except holidays.

SUPPLEMENTARY INFORMATION: The Knoxville Recreation Area is located in a remote region of northern California where Lake, Napa, and Yolo counties meet. The entire Knoxville region is approximately 35,000 acres of lands open to the public of which 11,000 acres are managed by the State of California Department of Fish and Game and 24,000 acres are managed by the BLM, Ukiah Field Office. The BLM-managed area is open to most types of recreational activities including motorized and non-motorized recreational pursuits. The Ukiah Resource Management Plan designated 5,236 acres as an Area of Critical Environmental Concern for botanical studies and research because the Knoxville region is considered a “hot spot” for plant evolution.

BLM has issued this shooting closure because of increased shooting pressures. The Ukiah Resource Management Plan limited shooting at the Knoxville Recreation Area to a designated six (6) acre site historically used for recreational shooting and target practicing. Since designation, the BLM Ukiah Field Office has been receiving an increasing number of public complaints from recreational users, researchers, and adjacent private property owners about near misses to people, animals, buildings, and equipment from stray bullets fired in, around, and from the designated shooting range. In addition, serious resource degradation has been occurring throughout the Knoxville Recreation Area, including the Hunting Creek Campground, caused by indiscriminate shooting of BLM signs, buildings, and natural resources. This shooting closure is necessary to protect resources and meet the documented health and safety concerns raised by the surrounding land owners and public land users regarding the dangers of stray bullets fired by indiscriminate shooters.

Closure Order: Notice is hereby given that effective on this date of publication in the Federal Register and pursuant to 43 CFR 8364.1, the public lands described as the Knoxville Shooting Range within SE¼ SW¼ sec. 28, Township 12 North, Range 5 West, MDM., containing approximately six (6) acres are closed to the public for recreational shooting and target practice. These lands, managed by the Ukiah BLM Field Office, are located at the Knoxville Recreation Area in southeastern Lake County, California. Be advised that other BLM-managed public lands of the Knoxville Recreation Area remain unavailable for shooting due to the lack of identified designated shooting areas as defined by the Ukiah Resource Management Plan. This Closure Order is necessary to protect people, public and private property, and public land resources due to an increase in documented cases of stray bullets fired by indiscriminate shooters.

The following persons are exempt from this closure order:

(1) Federal, State, or local law enforcement officers, while acting within the scope of their official duties.

(2) BLM personnel or their representatives while acting within the scope of their official duties.

(3) Any member of an organized rescue, fire-fighting force, or emergency medical services organization while in the performance of their official duties.

(4) Any person in receipt of a written authorization of exemption obtained from the authorized officer.

(5) Any person with a current legal California hunting license in his/her possession and hunting in accordance with state law.

This Notice and maps of the restricted area will be clearly posted at main entry points to the Knoxville Recreation Area and at the area affected by this Order and will also be available at the BLM Ukiah Field Office.

This Closure Order is effective on the date published in the Federal Register and will remain in effect until revoked.

Failure to comply with this order is punishable by a fine not to exceed $1,000 and/or imprisonment not to exceed 12 months pursuant to 43 CFR 8360.0-7. A failure to comply may also be subject to the enhanced fines provided for by 18 U.S.C. 3571.

This Shooting closure is supported by NEPA document number CA-340-08-020. The NEPA document and its associated decision record are available upon request at the BLM Ukiah Field Office.

Rich Burns,
Ukiah Field Manager.

[FR Doc. E8-30960 Filed 12-29-08; 8:45 am]

BILLING CODE 4310-40-P